DEPARTMENT OF COMMERCE

National Oceanic and Atmospheric Administration

RIN 0648-XL71

North Pacific Fishery Management Council; Public Meeting

s

AGENCY: National Marine Fisheries Service (NMFS), National Oceanic and Atmospheric Administration (NOAA), Commerce.

ACTION: Notice of public meetings.

SUMMARY: The North Pacific Fishery Management Council (Council) and its advisory committees will hold public meetings, December 10-16, 2008, in Anchorage, AK.

DATES: The Council will begin its plenary session at 8 a.m. on Wednesday, December 10 continuing through Tuesday, December 16, 2008. The Council's Advisory Panel (AP) will begin at 8 a.m., Monday, December 8 and continue through Friday December 12. The Scientific and Statistical Committee (SSC) will begin at 8 a.m. on Monday, December 8 and continue through Wednesday, December 10, 2008. The Ecosystem Committee will meet Tuesday, December 9, from 9 a.m. to 12 p.m. The Enforcement Committee will meet Tuesday, December 9, from 1 p.m. to 5 p.m. in the. All meetings are open to the public, except executive sessions.

ADDRESSES: The meetings will be held at the Hilton Hotel, 500 West 3rd Avenue, Anchorage, AK.

Council address: North Pacific Fishery Management Council, 605 W. 4th Avenue, Suite 306, Anchorage, AK 99501-2252.

FOR FURTHER INFORMATION CONTACT: David Witherell, Council staff, telephone: (907) 271-2809.

SUPPLEMENTARY INFORMATION: Council Plenary Session: The agenda for the Council's plenary session will include the following issues. The Council may take appropriate action on any of the issues identified.

1. Reports

Executive Director's Report

NMFS Management Report (including Draft plan for Essential Fish Habitat (EFH) 5-year review)

Alaska Department of Fish & Game Report (includes report on Board of Fisheries proposals)

U.S. Coast Guard Report

U.S. Fish & Wildlife Service Report

Protected Species Report

2. Report on the Marine Protected area nomination process.

3. Gulf of Alaska (GOA) Groundfish Management: Initial review of GOA fixed gear License Limitation Program (LLP) recency; Initial review of GOA pacific cod sector split.

4. Groundfish Catch Specifications: Receive Plan Team reports; Approve final BSAI groundfish specifications and Stock Assessment Fishery Evaluation (SAFE) reports; Approve final GOA groundfish specifications and SAFE reports; review and discussion papers on Pacific cod area split (BS and AI).

5. BSAI Crab Issues: Receive BSAI Crab Program 3-year review report; receive Crab Committee report/crew proposals; review of BSAI 90/10 Amendment alternatives and analysis outline; receive report on Crab Economic Data report metadata.

6. Observer Program: Review discussion paper on program restructuring; review NMFS letter on Level 2 observer issues.

7. Aleutian Islands Sideboards: discussion paper on sideboards for AI cod processing; discussion paper on sideboards for AI Pacific ocean perch/Atka mackerel processing.

8. Miscellaneous Groundfish Management: Committee report on comprehensive data collection (T); discussion paper on GOA Rockfish program; discussion paper on BSAI Chum Salmon Bycatch alternatives (Council only); Discussion paper on GOA salmon and crab bycatch.

9. Arctic Fishery Management Plan (FMP): Progress report to SSC on Arctic FMP; Council action if necessary.

10. Staff Tasking: Review Committees and tasking; receive report on Alaska Native/Community Outreach.

11. Other Business

The SSC agenda will include the following issues:

1. Groundfish specifications

2. Committee reports on data collection

3. Arctic FMP

The Advisory Panel will address most of the same agenda issues as the Council, except for #1 reports. The Agenda is subject to change, and the latest version will be posted at http://www.fakr.noaa.gov/npfmc/.

Special Accommodations

These meetings are physically accessible to people with disabilities. Requests for sign language interpretation or other auxiliary aids should be directed to Gail Bendixen at 907-271-2809 at least 7 working days prior to the meeting date.

Dated: November 13, 2008.
Tracey L. Thompson,
Acting Director, Office of Sustainable Fisheries, National Marine Fisheries Service.

[FR Doc. E8-27331 Filed 11-17-08; 8:45 am]

BILLING CODE 3510-22-S